DEPARTMENT OF COMMERCE

International Trade Administration

[A-570-131, C-570-132]

Twist Ties From the People's Republic of China: Antidumping and Countervailing Duty Orders; Correction

AGENCY: Enforcement and Compliance, International Trade Administration, Department of Commerce.

ACTION: Notice; correction.

SUMMARY: The Department of Commerce (Commerce) published a notice in the Federal Register of April 14, 2021, regarding the antidumping duty (AD) and countervailing duty (CVD) orders on twist ties from the People's Republic of China (China). This notice contained the incorrect name of one of the companies subject to the CVD order.

FOR FURTHER INFORMATION CONTACT: Ajay Menon, AD/CVD Operations, Office II, Enforcement and Compliance, International Trade Administration, U.S. Department of Commerce, 1401 Constitution Avenue NW, Washington, DC 20230; telephone: (202) 482-1993.

SUPPLEMENTARY INFORMATION:

Correction

In the Federal Register of April 14, 2021, in FR Doc 2021-07630, on page 19604, in the second column, correct the name of the fifth company listed in the “Company” table to be Zhenjiang Zhonglian I/E Co., Ltd.

Background

On April 14, 2021, Commerce published in the Federal Register the AD and CVD orders on twist ties from China.¹ We misspelled the name of the fifth company in the “Company” table subject to the CVD order as Zhenjiang Zhonglian VE Co., Ltd. The correct name of this company is Zhenjiang Zhonglian I/E Co., Ltd.

¹ See Twist Ties from the People's Republic of China: Antidumping and Countervailing Duty Orders, 86 FR 19602 (April 14, 2021).

Notification to Interested Parties

This notice is issued and published in accordance with section 706(a) of the Tariff Act of 1930, as amended, and 19 CFR 351.211(b).

Dated: April 20, 2021.
Christian Marsh,
Acting Assistant Secretary for Enforcement and Compliance.

[FR Doc. 2021-08635 Filed 4-23-21; 8:45 am]

BILLING CODE 3510-DS-P